DEPARTMENT OF ENERGY

Extension of Comment Period; Invitation for Public Comment To Inform the Design of a Consent-Based Siting Process for Nuclear Waste Storage and Disposal Facilities

AGENCY: Fuel Cycle Technologies, Office of Nuclear Energy, Department of Energy.

ACTION: Notice of extension of comment period.

SUMMARY: The U.S Department of Energy (DOE) is extending the comment period provided in the notice entitled “Invitation for Public Comment to Inform the Design of a Consent-Based Siting Process for Nuclear Waste Storage and Disposal Facilities” that appeared in the Federal Register of December 23, 2015. That notice announced that DOE is planning to design a consent-based siting process to establish an integrated waste management system to transport, store, and dispose of spent nuclear fuel and high-level radioactive waste and requested comments by June 15, 2016. DOE is extending the comment period to July 31, 2016.

DATES: DOE is extending the comment period for the “Invitation for Public Comment to Inform the Design of a Consent-Based Siting Process for Nuclear Waste Storage and Disposal Facilities” to July 31, 2016.

ADDRESSES: You may submit questions or comments by any of the following methods:

Email: Responses may be provided by email to consentbasedsiting@hq.doe.gov. Please include “Response to IPC” in the subject line.

Mail: Responses may be provided by mail to the following address: U.S. Department of Energy, Office of Nuclear Energy, Response to IPC, 1000 Independence Ave. SW., Washington, DC 20585.

Fax: Responses may be faxed to 202-586-0544. Please include “Response to IPC” on the fax cover page.

Online: Responses will be accepted online at www.regulations.gov.

FOR FURTHER INFORMATION CONTACT: Requests for further information should be sent to consentbasedsiting@hq.doe.gov. Please include “Question on IPC” in the subject line.

SUPPLEMENTARY INFORMATION:

Submitting Comments

Instructions: Submit comments via any of the mechanisms set forth in the ADDRESSES section above. Respondents are requested to provide the following information at the beginning of their response to this IPC:

State, tribal, community, organization, public or individual name;

State, tribal, community, organization, public or individual point of contact; and

Point of contact's address, phone number, and email address.

If an email or phone number is included, it will allow the DOE to contact the commenter if questions or clarifications arise. No responses will be provided to commenters in regards to the disposition of their comments. All comments will be officially recorded without change or edit, including any personal information provided. Personal information (other than name) will be protected from public disclosure upon request.

Please identify your comments as responding to a specific question posed in the Invitation for Public Comment, if possible. Respondents may answer as many or as few questions as they wish. Any additional comments that do not address a particular question should be included at the end of your response to this IPC as “Additional Comments.”

DOE would appreciate early input in order to identify initial interest and concerns, as well as any early opportunities. Amended or revised inputs from commenters are also welcome throughout the comment period to help DOE develop this process. Comments received after the closing date will be considered as the planning process progresses; however, the DOE is only able to ensure consideration of comments received on or before the closing date as the initial phase of the consent based siting process is developed. Subsequent comments and input will also be welcome as DOE views this as a core component of a phased and adaptive consent-based siting process.

Privacy Act: Data collected via the mechanisms listed above will not be protected from the public view in any way.

Issued in Washington, DC, on March 9, 2016.
Andrew Richards,
Chief of Staff, Office of Nuclear Energy, Department of Energy.

[FR Doc. 2016-05797 Filed 3-21-16; 8:45 am]

BILLING CODE 6450-01-P